DEPARTMENT OF HEALTH AND HUMAN SERVICES

Indian Health Service

Office of Urban Indian Health Programs; Urban Indian Education and Research Organization Cooperative Agreement Program Announcement Type: New and Competing Continuation Funding Announcement Number: HHS-2016-IHS-UIHP3-0001; Catalog of Federal Domestic Assistance Number: 93.193

Key Dates

Application Deadline Date: August 18, 2016.

Review Date: August 22, 2016-August 26, 2016.

Earliest Anticipated Start Date: September 15, 2016.

Proof of Non-Profit Status Due Date: August 18, 2016.

I. Funding Opportunity Description

Statutory Authority

The Indian Health Service (IHS) is accepting competitive cooperative agreement applications for the Urban Indian Organization Education and Research Cooperative Agreement Program. This program is authorized under the Snyder Act, 25 U.S.C. 13, and Section 301(a) of the Public Health Service Act, 42 U.S.C. 241(a). This program is described in the Catalog of Federal Domestic Assistance (CFDA) under 93.193.

Background

The Office of Urban Indian Health Programs (OUIHP) oversees the implementation of the Indian Health Care Improvement Act (IHCIA) provisions for making health services more accessible to urban Indians. Pursuant to those authorities, the IHS enters into contracts and grants with urban Indian organizations for the provision of health care and referral services for urban Indians residing in the urban centers. Those services may include (1) alcohol and substance abuse prevention, treatment, rehabilitation and education; (2) mental health needs and assessments; (3) health promotion and disease prevention services; and (4) immunization services. The cooperative agreement provides services and advocacy for urban Indian organizations (UIOs) that include the following four core activities: (1) Public policy; (2) research and data; (3) training and technical assistance; (4) education, public relations and marketing.

Purpose

The purpose of this IHS cooperative agreement is to fund a national urban Indian organization to act as an education and research partner for OUIHP and urban Indian organizations funded under the IHCIA.

Pre-Conference Grant Requirements

The awardee is required to comply with the “HHS Policy on Promoting Efficient Spending: Use of Appropriated Funds for Conferences and Meeting Space, Food, Promotional Items, and Printing and Publications,” dated December 16, 2013 (“Policy”), as applicable to conferences funded by grants and cooperative agreements. The Policy is available at http://www.hhs.gov/grants/contracts/contract-policies-regulations/conference-spending/.

The awardee is required to:

Provide a separate detailed budget justification and narrative for each conference anticipated. The cost categories to be addressed are as follows: (1) Contract/Planner, (2) Meeting Space/Venue, (3) Registration Web site, (4) Audiovisual, (5) Speakers Fees, (6) Non-Federal Attendee Travel, (7) Registration Fees, and (8) Other (explain in detail and cost breakdown). For additional questions please contact Shannon Beyale at (301) 945-3657 or email her at Shannon.Beyale@ihs.gov.

II. Award Information

Type of Award

Cooperative Agreement.

Estimated Funds Available

The total amount of funding identified for the current fiscal year (FY) 2016 is approximately $800,000. Individual award amounts are anticipated to be between $500,000 and $800,000. The amount of funding available for competing and continuation awards issued under this announcement are subject to the availability of appropriations and budgetary priorities of the Agency. The IHS is under no obligation to make awards that are selected for funding under this announcement.

Anticipated Number of Awards

One award will be issued under this program announcement.

Project Period

The project period is for three years and will run consecutively from September 15, 2016 to September 14, 2019.

Cooperative Agreement

Cooperative agreements awarded by the Department of Health and Human Services (HHS) are administered under the same policies as a grant. The funding agency (IHS) is required to have substantial programmatic involvement in the project during the entire award segment. Below is a detailed description of the level of involvement required for both IHS and the grantee. IHS will be responsible for activities listed under section A and the grantee will be responsible for activities listed under section B as stated:

Substantial Involvement Description for Cooperative Agreement

A. IHS Programmatic Involvement

In addition to the usual monitoring and technical assistance provided under the cooperative agreement, the IHS/OUIHP responsibilities shall include:

(1) Assurance of the availability of the services of experienced staff to participate in the planning and development of all phases of this cooperative agreement;

(2) Working closely with the IHS Public Affairs Office regarding dissemination of publications completed under the cooperative agreement and cooperating on the referral of inquiries and request for technical assistance, publications and other information;

(3) Participation in, including the planning of, any meetings conducted as part of project activities;

(4) Assistance in establishing Federal interagency and state contacts necessary for the successful completion of tasks and activities identified in the approved scope of work;

(5) Identification of other awardees and organizations with whom the awardee will be asked to develop cooperative and collaborative relationships; and

(6) Assisting the awardee to establish, review and update priorities for activities conducted under the auspices of the cooperative agreement.

(7) Assisting the awardee to determine which issues will be addressed during the project period, the sequence in which they will be addressed, what approaches and strategies will be used to address them, and how relevant information will be transmitted to specified target audiences and used to enhance project activities and advance the program.

B. Grantee Cooperative Agreement Award Activities

Requirements and obligations of the cooperative agreement recipient shall include:

(1) Work collaboratively with the urban Indian organizations funded under the IHCIA;

(2) Respond in a flexible manner to collaborating on occasional short-term projects, in addition to long-term and on-going efforts;

(3) Work closely with the Federal project officer when hiring new key project staff and planning/implementing new activities;

(4) Consult with the Federal project officer before scheduling any meetings, including project advisory/steering committee meetings, that pertain to the scope of work and at which the project officer's attendance would be appropriate;

(5) Provide the Federal project officer with the opportunity to review, provide advisory input, and approve at the program level, any publications, audiovisuals and other materials produced, as well as meetings/conferences planned under the auspices of this cooperative agreement (such review should start as part of concept development and include review of drafts and final products);

(6) Provide the Federal project officer with an electronic copy of, or electronic access to, each product developed under the auspices of this project;

(7) Participate in the implementation of awardee performance measures, including the collection of information and administrative data as designated by the OUIHP;

(8) Ensure that all products developed or produced, either partially or in full, under the auspices of this cooperative agreement are fully accessible and available for free to members of the public;

(9) Identify IHS/OUIHP as a funding sponsor on written products and during meetings and conferences relevant to cooperative agreement activities;

(10) Acknowledge IHS/OUIHP has uncontested access to any and all data generated under this cooperative agreement, and agree to provide royalty-free, nonexclusive, and irrevocable license for the government to reproduce, publish, or otherwise use any products derived from activities conducted under this cooperative agreement; and

(11) Comply with relevant Office of Management and Budget (OMB) circular provisions regarding lobbying, any applicable lobbying restrictions provided under other law and any applicable restriction on the use of appropriated funds for lobbying activities.

III. Eligibility Information

1. Eligibility

The applicant must demonstrate a national non-profit organization with demonstrated experience working with IHCIA Title V-funded urban Indian health programs. The applicant must provide proof of non-profit status, e.g., 501(c)(3).

Competition is open to a national urban Indian organization that has demonstrated experience working with IHCIA Title V-funded urban Indian health programs.

Current OUIHP grantees are eligible to apply for this new and competing continuation funding under this announcement and must demonstrate that they have complied with previous terms and conditions of the OUIHP grant in order to receive funding under this announcement.

Note: Please refer to Section IV.2 (Application and Submission Information/Subsection 2, Content and Form of Application Submission) for additional proof of applicant status documents required such as proof of non-profit status, etc.

2. Cost Sharing or Matching

The IHS does not require matching funds or cost sharing for grants or cooperative agreements.

3. Other Requirements

If application budgets exceed the highest dollar amount outlined under the “Estimated Funds Available” section within this funding announcement, the application will be considered ineligible and will not be reviewed for further consideration. If deemed ineligible, IHS will not return the application. The applicant will be notified by email by the Division of Grants Management (DGM) of this decision.

Proof of Non-Profit Status

Organizations claiming non-profit status must submit proof. A copy of the 501(c)(3) Certificate must be received with the application submission by the Application Deadline Date listed under the Key Dates section on page one of this announcement.

An applicant submitting any of the above additional documentation after the initial application submission due date is required to ensure the information was received by the IHS by obtaining documentation confirming delivery (i.e., FedEx tracking, postal return receipt, etc.).

IV. Application and Submission Information

1. Obtaining Application Materials

The application package and detailed instructions for this announcement can be found at http://www.Grants.gov or http://www.ihs.gov/dgm/funding/.

Questions regarding the electronic application process may be directed to Mr. Paul Gettys at (301) 443-2114 or (301) 443-5204.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Budget Justification and Narrative (must be single-spaced and not exceed five pages).

• Project Narrative (must be single-spaced and not exceed 50 pages).

○ Background information on the organization.

○ Proposed scope of work, objectives, and activities that provide a description of what will be accomplished, including a one-page Timeframe Chart.

• Letter of Support from Organization's Board of Directors.

• 501(c)(3) Certificate.

• Biographical sketches for all Key Personnel.

• Contractor/Consultant resumes or qualifications and scope of work.

• Disclosure of Lobbying Activities (SF-LLL).

• Certification Regarding Lobbying (GG-Lobbying Form).

• Copy of current Negotiated Indirect Cost rate (IDC) agreement (required) in order to receive IDC.

• Copy of current approved Organizational Chart.

• Documentation of current OMB audit, as required by 45 CFR part 75, subpart F, or other required financial audit.

Acceptable forms of documentation include:

○ Email confirmation from Federal Audit Clearinghouse (FAC) that audits were submitted; or

○ Face sheets from audit reports. These can be found on the FAC Web site: http://harvester.census.gov/sac/dissem/accessoptions.html?submit=Go+To+Database.

Public Policy Requirements

All Federal-wide public policies apply to IHS grants and cooperative agreements with exception of the discrimination policy.

Requirements for Project and Budget Narratives

A. Project Narrative: This narrative should be a separate Word document that is no longer than 50 pages and must: Be single-spaced, be type written, have consecutively numbered pages, use black type not smaller than 12 characters per one inch, and be printed on one side only of standard size 8½″ x 11″ paper.

Be sure to succinctly address and answer all questions listed under the narrative and place them under the evaluation criteria (refer to Section V.1, Evaluation criteria in this announcement) and place all responses and required information in the correct section (noted below), or they shall not be considered or scored. These narratives will assist the Objective Review Committee (ORC) in becoming familiar with the applicant's activities and accomplishments prior to this cooperative agreement award. If the narrative exceeds the page limit, only the first 50 pages will be reviewed. The 50-page limit for the narrative does not include the work plan, standard forms, Tribal resolutions, table of contents, budget, budget justifications, narratives, and/or other appendix items.

There are three parts to the narrative: Part A—Program Information; Part B—Program Planning and Evaluation; and Part C—Program Report.

Part A: Program Information (35 Pages)

Section 1: Needs

This section should help reviewers understand the UIOs that will be served by the proposed project.

Summarize the overall need for assistance: (1) The target population and its unmet health needs; and (2) socio-cultural determinants of health and health disparities impacting the urban Indian population or communities served and unmet. Demographic data should be used and cited whenever possible to support the information provided.

For each Project Area, in addition to the specific components below, address: (1) Relevant barriers that the project hopes to overcome; (2) the administrative infrastructure to provide the four program requirements: Public policy, research and data, structured training and technical assistance for UIOs and education, public relations and marketing of UIOs; and (3) the previous planning activities the applicant has completed and if the applicant has identified or will establish best-practices or evidence-based practices relative to these services.

Core Activities

1. Public Policy

i. Summarize the public policy opportunities and challenges of UIOs in the implementation of the various laws including, but not limited to, the following:

1. Public Law 111-148, The Patient Protection and Affordable Care Act of March 21, 2010; House of Representatives 4872, the Health Care and Education Reconciliation Act of March 23, 2010; and

2. The Indian Health Care Improvement Reauthorization and Extension Act of 2009 (IHCIA).

ii. Describe the need for education on the IHS Policy on Conferring with Urban Indian Organizations (IHCIA, 25 U.S.C. 1660d).

2. Research and Data

i. Describe the need to collect and analyze health disparities data, morbidity and mortality data, and urban Indian health services costs data in order to reduce urban Indian health disparities and identify, improve, evaluate, and document UIOs through practice-based and evidence-based best practices.

3. Structured Training and Technical Assistance for UIOs

Describe the need for training and technical assistance to support:

i. UIO Leaders.

ii. UIO Board of Directors: Executive roles and responsibilities.

iii. UIO Staff: i.e., clinical staff, administration, business office, health information technology (IT), behavioral health.

Further describe the need for training and technical assistance to support urban Indian organization administration in the following areas:

i. Enhance Revenue and Third Party Billing;

ii. Implement the Payment Systems Reform;

iii. Meet Government Performance and Results Act (GPRA)/Government Performance and Results Modernization Act (GPRAMA) Performance Measure Targets;

iv. International Classification of Diseases (ICD)-10 Planning and Implementation of Medicare Access and CHIP Reauthorization Act (MACRA);

v. Electronic Health Records/Meaningful Use; and

vi. Incentives and Penalties.

4. Education, Public Relations and Marketing of UIOs

i. Summarize the need to market the urban Indian organizations through development of national, regional and local marketing strategies and campaigns.

ii. Describe the need for enhanced communication among local private and non-profit health care entities.

iii. Summarize the need to enhance communication, interaction and coordination on policy and health care reform activities by initiating and maintaining partnerships and collaborative relationships with other urban Indian organizations, national Indian organizations, key state and local health entities, and education and public safety networks.

Part B: Program Planning and Evaluation (10 Pages)

Section 1: Program Plans—Project Goals and Objectives, Methodology, Work Plan, Resolution of Challenges, and Impact

Goals and Objectives

Applicant should:

1. State the goals for the proposed project. For project goals, which should be national in scope, describe the desired short and long-term outcomes in cooperation with the IHS.

2. Provide at least five goals for each of the four core activities. These goals are broad statements that establish the overall direction for, and focus of, a project. They serve as the foundation for developing project objectives.

Applicant should provide at least one specific, achievable, measurable, time-framed outcome objective for each proposed project goal. Outcome objectives are specific statements of positive change to be effected in order to achieve the goals of the project. That is, outcome objectives are measurable steps, or stepping stones, for reaching goals. They form the basis for monitoring progress toward achieving project goals and setting targets for accountability. Collectively, the proposed outcome objectives should frame the set of national outcomes that the applicant wants to achieve in meeting project goals.

Methodology

Propose methods that will be used to meet each of the previously-described program requirements and expectations in this funding opportunity announcement. As appropriate, include development of effective tools and strategies for ongoing staff training, outreach, collaborations, clear communication, and information sharing/dissemination with efforts to involve urban Indian organization staff and patients, Tribal, Federal, state, and local entities.

1. Describe proposed approaches and activities for achieving project goals and objectives, as outlined in Part A. Program Information Needs. In particular, applicants should demonstrate that the proposed methodological approaches are national in scope and contribute to increased capacity within the urban Indian health system.

2. Describe the specific activities necessary to carry out each methodological approach. Applicants should take into consideration the logic, technical soundness, feasibility, creativity and innovativeness, potential utility, and national applicability of the activities it proposes.

3. The description of the project methodology should cover budget period September 1, 2016 through August 31, 2017.

4. Develop a systematic diagram that links anticipated outcomes with the project's activities/processes and theoretical assumptions. It should include the following basic components: Goal, resources/inputs, activities, outputs, outcomes, impacts, and timelines. The system diagram should be included as part of the application appendix.

5. Evidence should be provided that the approaches and activities can reasonably be expected to be effective.

Work Plan

1. Develop and include a Work Plan that describes the sequence of specific activities and steps that will be used to carry out each proposed methodological approach. Explicitly describe who will conduct each activity, as well as when, where, and how each activity will be carried out.

2. A detailed time line of proposed project activities should be developed by the applicant, and attached as an appendix. The time line should link activities to project objectives and should cover the three years of the project period.

3. Describe an efficient and effective plan for managing the project, including its personnel and resources.

4. Describe an effective plan for monitoring and tracking project activities.

Resolution of Challenges

Discuss challenges, including both opportunities and barriers that are likely to be encountered in designing and implementing the activities described in the Description of Methodology and Work Plan sections, as well as approaches that will be used to address such challenges.

Impact

This section of the Project Narrative discusses the proposed project's national impact, how the applicant plans to engage UIO, and how project activities will yield benefits for UIO.

1. Explain how the proposed project's products and results will have a national scope and applicability.

2. Provide an inclusive description of the target audiences as well as proposed strategies for reaching these audiences.

3. Describe how and to what extent the proposed project activities will directly improve leadership within the urban Indian health organizations being targeted, and contribute to improved health status among urban Indians. The applicant should include a description of how it intends to mobilize its audiences to learn from and actually use the materials, products and resources it has developed to address the four program requirements identified in Part A.—Program Information Needs.

Section 2: Program Evaluation

Evaluation and self-assessment have vital importance for quality improvement and assessing the value-added contribution of urban Indian education and research investments. Consequently, cooperative agreement projects are expected to incorporate a carefully designed and well-planned evaluation protocol capable of demonstrating and documenting measurable progress toward reaching the project's stated goals through achievement of the project's measurable objectives. The evaluation protocol should be based on a clear rationale relating the identified needs of the target population with project goals, award activities, and the evaluation measures. Whenever possible, the measurements of progress toward goals should focus on outcomes and results over which the project has some degree of influence, rather than on intermediate measures such as process or outputs.

Instructions

1. Provide a well-conceived and logical plan for assessing the achievement of the project's process and outcome objectives and for evaluating changes in the specific problems and contributing factors. The evaluation plan should focus primarily on outcomes over which the project has influence and that have the capacity to produce meaningful data on an annual basis.

2. Develop at least two (2) performance measures by which it will track its progress over time. A performance measure is a quantifiable indicator of progress and achievement that includes outcome, output, input, efficiency, and explanatory indicators. It can measure such domains as productivity, effectiveness, quality and timeliness (Government Accounting Standards Board, http://www.seagov.org/aboutpmg/performance_measurement.shtml).

Part C: Program Report (5 Pages)

Section 1: Describe major accomplishments over the last 12 months.

Please identify and describe significant program achievements for each of the four core activities. Provide a comparison of the actual accomplishments to the goals established for the project period, or if applicable, provide justification for the lack of progress.

Section 2: Describe major activities over the last 12 months.

Please identify and summarize recent major activities of the work done during the project period for each of the four core activities.

B. Budget Narrative: This narrative must include a line item budget with a narrative justification for all expenditures identifying reasonable and allowable costs necessary to accomplish the goals and objectives as outlined in the project narrative. Budget should match the scope of work described in the project narrative. The budget narrative should not exceed five pages.

3. Submission Dates and Times

Applications must be submitted electronically through Grants.gov by 11:59 p.m. Eastern Daylight Time (EDT) on the Application Deadline Date listed in the Key Dates section on page one of this announcement. Any application received after the application deadline will not be accepted for processing, nor will it be given further consideration for funding. Grants.gov will notify the applicant via email if the application is rejected.

If technical challenges arise and assistance is required with the electronic application process, contact Grants.gov Customer Support via email to support@grants.gov or at (800) 518-4726. Customer Support is available to address questions 24 hours a day, 7 days a week (except on Federal holidays). If problems persist, contact Mr. Paul Gettys (Paul.Gettys@ihs.gov), DGM Grant Systems Coordinator, by telephone at (301) 443-2114 or (301) 443-5204. Please be sure to contact Mr. Gettys at least ten days prior to the application deadline. Please do not contact the DGM until you have received a Grants.gov tracking number. In the event you are not able to obtain a tracking number, call the DGM as soon as possible.

If the applicant needs to submit a paper application instead of submitting electronically through Grants.gov, a waiver must be requested. Prior approval must be requested and obtained from Mr. Robert Tarwater, Director, DGM, (see Section IV.6 below for additional information). The waiver must: (1) Be documented in writing (emails are acceptable), before submitting a paper application, and (2) include clear justification for the need to deviate from the required electronic grants submission process. A written waiver request must be sent to GrantsPolicy@ihs.gov with a copy to Robert.Tarwater@ihs.gov. Once the waiver request has been approved, the applicant will receive a confirmation of approval email containing submission instructions and the mailing address to submit the application. A copy of the written approval must be submitted along with the hardcopy of the application that is mailed to DGM. Paper applications that are submitted without a copy of the signed waiver from the Director of the DGM will not be reviewed or considered for funding. The applicant will be notified via email of this decision by the Grants Management Officer of the DGM. Paper applications must be received by the DGM no later than 5:00 p.m., EDT, on the Application Deadline Date listed in the Key Dates section on page one of this announcement. Late applications will not be accepted for processing or considered for funding.

4. Intergovernmental Review

Executive Order 12372 requiring intergovernmental review is not applicable to this program.

5. Funding Restrictions

• Pre-award costs are not allowable.

• The available funds are inclusive of direct and appropriate indirect costs.

• Only one grant/cooperative agreement will be awarded per applicant.

• IHS will not acknowledge receipt of applications.

6. Electronic Submission Requirements

All applications must be submitted electronically. Please use the http://www.Grants.gov Web site to submit an application electronically and select the “Find Grant Opportunities” link on the homepage. Download a copy of the application package, complete it offline, and then upload and submit the completed application via the http://www.Grants.gov Web site. Electronic copies of the application may not be submitted as attachments to email messages addressed to IHS employees or offices.

If the applicant receives a waiver to submit paper application documents, they must follow the rules and timelines that are noted below. The applicant must seek assistance at least ten days prior to the Application Deadline Date listed in the Key Dates section on page one of this announcement.

Applicants that do not adhere to the timelines for System for Award Management (SAM) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and a waiver from the agency must be obtained.

• If it is determined that a waiver is needed, the applicant must submit a request in writing (emails are acceptable) to GrantsPolicy@ihs.gov with a copy to Robert.Tarwater@ihs.gov. Please include a clear justification for the need to deviate from the standard electronic submission process.

• If the waiver is approved, the application should be sent directly to the DGM by the Application Deadline Date listed in the Key Dates section on page one of this announcement.

• Applicants are strongly encouraged not to wait until the deadline date to begin the application process through Grants.gov as the registration process for SAM and Grants.gov could take up to fifteen working days.

• Please use the optional attachment feature in Grants.gov to attach additional documentation that may be requested by the DGM.

• All applicants must comply with any page limitation requirements described in this funding announcement.

• After electronically submitting the application, the applicant will receive an automatic acknowledgment from Grants.gov that contains a Grants.gov tracking number. The DGM will download the application from Grants.gov and provide necessary copies to the appropriate agency officials. Neither the DGM nor the OUIHP will notify the applicant that the application has been received.

• Email applications will not be accepted under this announcement.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, please access it through http://fedgov.dnb.com/webform, or to expedite the process, call (866) 705-5711.

All HHS recipients are required by the Federal Funding Accountability and Transparency Act of 2006, as amended (“Transparency Act”), to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that were not registered with Central Contractor Registration and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with the SAM is free of charge. Applicants may register online at https://www.sam.gov.

Additional information on implementing the Transparency Act, including the specific requirements for DUNS and SAM, can be found on the IHS Grants Management, Grants Policy Web site: http://www.ihs.gov/dgm/policytopics/.

V. Application Review Information

The instructions for preparing the application narrative also constitute the evaluation criteria for reviewing and scoring the application. Weights assigned to each section are noted in parentheses. The 50 page narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 points. A minimum score of 70 points is required for funding. Points are assigned as follows:

1. Criteria

A. Introduction and Need for Assistance (35 Points)

1. The target population and its unmet health needs are described and documented;

2. Socio-cultural determinants of health and health disparities impacting the urban Indian population or communities served are identified and described;

3. Demographic data is used and cited to support the information provided;

4. Relevant barriers that the project hopes to overcome are discussed;

5. Describe how the applicant determined it has the administrative infrastructure to provide the four program requirements: Public policy, research and data, structured training and technical assistance for UIOs, and education, public relations and marketing of UIOs; and

6. Explain previous planning activities the applicant has completed and if the applicant has identified or established best-practices or evidence-based practices relative to each of the four program requirements.

Public Policy

A. Applicant summarized the public policy opportunities and challenges of UIOs of the various laws including: Public Law 111-148, The Patient Protection and Affordable Care Act of March 21, 2010; House of Representatives 4872, the Health Care and Education Reconciliation Act of March 23, 2010; and the Indian Health Care Improvement Reauthorization and Extension Act of 2009.

B. Applicant summarized the need for education on the IHS policy on conferring with UIOs.

Research and Data

Applicant described the need to collect and analyze health disparities data, morbidity and mortality data, and urban Indian health services costs data in order to reduce urban Indian health disparities and identify, improve, evaluate, and document UIOs through practice-based and Evidence-based best practices.

Structured Training and Technical Assistance for UIOs

Applicant described the need for training and technical assistance to support:

A. UIO Leaders;

B. UIO Board of Directors: Executive roles and responsibilities; and

C. UIO Staff: i.e., clinical staff, administration, business office, health IT, behavioral health.

Applicant further described the need for training and technical assistance to support urban Indian organization administration in the following areas:

A. Enhance Revenue and Third Party Billing;

B. Implement the Payment Systems Reform;

C. Meet GPRA/GPRAMA Performance Measure Targets;

D. ICD-10 Planning and Implementation of MACRA;

E. Electronic Health Records/Meaningful Use; and

F. Incentives and Penalties.

Education, Public Relations and Marketing of UIOs

A. Applicant summarized the need to market the UIOs through development of national, regional and local marketing strategies and campaigns.

B. Applicant described the need for enhanced communication among local private and non-profit health care entities.

C. Applicant summarized the need to enhance communication, interaction and coordination on policy and health care reform activities by initiating and maintaining partnerships and collaborative relationships with other UIOs, national Indian organizations, key state and local health entities, and education and public safety networks.

B. Project Objective(s), Work Plan and Approach (25 Points)

Program Plans—Project Goals and Objectives, Methodology, Work Plan, Resolution of Challenges, and Impact

Goals and Objectives

Applicant stated the goals for each program requirement. Project goals were national in scope and described the desired short and long-term outcomes in cooperation with the IHS. At least five goals for each of the four core activities were provided.

Applicant provided at least one specific, achievable, measurable, time-framed outcome objective for each proposed project goal. The proposed outcome objectives framed the set of national outcomes the applicant wanted to achieve in meeting project goals.

Methodology

Applicant described methods that will be used to meet each of the three project areas requirements and expectations in this funding opportunity announcement. Applicant also addressed development of effective tools and strategies for ongoing staff training, outreach, collaborations, clear communication, and information sharing/dissemination with efforts to involve urban Indian organization staff and patients, Tribal, Federal, state and local entities.

A. Applicant described proposed approaches and activities for achieving project goals and objectives, as outlined in Part A. Program Information Needs. Applicant demonstrated that the proposed methodological approaches were national in scope and contributes to increased capacity within the urban Indian health system.

B. Applicant described the specific activities necessary to carry out each methodological approach. Applicants took into consideration the logic, technical soundness, feasibility, creativity and innovativeness, potential utility, and national applicability of the activities it proposed.

C. The description of the project methodology covered September 1, 2016 through August 31, 2017.

D. Applicant developed a systematic diagram that linked anticipated outcomes with the project's activities/processes and theoretical assumptions. It included the following basic components: Goal, resources/inputs, activities, outputs, outcomes, impacts and timelines. The system diagram was included as part of the application appendix.

E. Applicant provided evidence that the approaches and activities can reasonably be expected to be effective.

Work Plan

A. A work plan was included that described the sequence of specific activities and steps that will be used to carry out each proposed methodological approach. The applicant explicitly described who will conduct each activity, as well as when, where, and how each activity will be carried out.

B. A detailed time line of proposed project activities was developed and included in the appendix. The time line linked activities to project objectives and covered the three years of the project period.

C. The applicant described an efficient and effective plan for managing the project, including its personnel and resources.

D. The applicant described an effective plan for monitoring and tracking project activities.

Resolution of Challenges

The applicant discussed challenges, including both opportunities and barriers, that are likely to be encountered in designing and implementing the activities described in the Description of Methodology and Work Plan sections, as well as approaches that will be used to address such challenges.

Impact

A. The applicant explained how the proposed project's products and results will have a national scope and applicability.

B. The applicant provided an inclusive description of its national target audiences as well as proposed strategies for reaching these audiences.

C. The applicant described how and to what extent the proposed project activities will directly improve leadership with the urban Indian health organizations being targeted, and contribute to improved health status among urban Indians. The applicant included a description of how it intends to mobilize its audiences to learn from and actually use the materials, products and resources it has developed to address the four program requirements identified in A.—Program Information needs.

C. Program Evaluation (15 Points)

1. The applicant provided a well-conceived and logical plan for assessing the achievement of the project's process and outcome objectives and for evaluating changes in the specific problems and contributing factors. The evaluation plan focused primarily on outcomes over which the project has influence and that have the capacity to produce meaningful data on an annual basis.

2. The applicant developed at least two (2) performance measures by which it will track its progress over time. The performance measures are quantifiable indicators of progress and achievement that includes outcome, output, input, efficiency, and explanatory indicators. The performance measures can be measured by domains including productivity, effectiveness, quality and timeliness.

D. Organizational Capabilities, Key Personnel and Qualifications (10 Points)

The applicant identified its credibility including how long and why the organization exists, accomplishments and impact, size and characteristics of its constituency, its funding sources and their positive comments on the organization's work, and results of internal and external evaluations of the programs. Included a listing of the current board of directors (the listing of board members includes their status as an urban Indian, professions, education degrees, and board appointment terms.)

Discussed the organization's administrative capacity including:

A. OMB circular administrative requirements for non-profit organizations;

B. Fiscal; and

C. Human resources policies and procedures and audit reporting.

Key Personnel and Qualifications

A. Identified current staff and new staff education, experience, skills, and knowledge; materials published; and previous work of a similar nature.

B. Described data collection strategy to collect, analyze and track data to measure process and impact/outcomes with UIOs, Tribes, national Indian organizations and States and explain how the data will be used to inform program development and service delivery.

E. Categorical Budget and Budget Justification (15 Points)

The applicant was specific and provided an itemized categorical budget and a clear succinct budget narrative justification to support the scope of work described in the project narrative. Did not exceed five pages.

Multi-Year Project Requirements

Projects requiring a second and third year must include a brief project narrative and budget (one additional page per year) addressing the developmental plans for each additional year of the project.

Additional Documents Can Be Uploaded as Appendix Items in Grants.gov

• Work plan, logic model and/or time line for proposed objectives.

• Position descriptions for key staff.

• Resumes of key staff that reflect current duties.

• Consultant or contractor proposed scope of work and letter of commitment (if applicable).

• Current Indirect Cost Agreement.

• Organizational chart.

• Map of area identifying project location(s).

• Additional documents to support narrative (i.e., data tables, key news articles, etc.).

2. Review and Selection

Each application will be prescreened by the DGM staff for eligibility and completeness as outlined in the funding announcement. Applications that meet the eligibility criteria shall be reviewed for merit by the ORC based on evaluation criteria in this funding announcement. The ORC could be composed of both Tribal and Federal reviewers appointed by the IHS program to review and make recommendations on these applications. The technical review process ensures selection of quality projects in a national competition for limited funding. Incomplete applications and applications that are non-responsive to the eligibility criteria will not be referred to the ORC. The applicant will be notified via email of this decision by the Grants Management Officer of the DGM. Applicants will be notified by DGM, via email, to outline minor missing components (i.e., budget narratives, audit documentation, key contact form) needed for an otherwise complete application. All missing documents must be sent to DGM on or before the due date listed in the email of notification of missing documents required.

To obtain a minimum score for funding by the ORC, applicants must address all program requirements and provide all required documentation.

VI. Award Administration Information

1. Award Notices

The Notice of Award (NoA) is a legally binding document signed by the Grants Management Officer and serves as the official notification of the grant award. The NoA will be initiated by the DGM in our grant system, GrantSolutions (https://www.grantsolutions.gov). Each entity that is approved for funding under this announcement will need to request or have a user account in GrantSolutions in order to retrieve their NoA. The NoA is the authorizing document for which funds are dispersed to the approved entities and reflects the amount of Federal funds awarded, the purpose of the grant, the terms and conditions of the award, the effective date of the award, and the budget/project period.

Disapproved Applicants

Applicants who received a score less than the recommended funding level for approval, 70, and were deemed to be disapproved by the ORC, will receive an Executive Summary Statement from the IHS program office within 30 days of the conclusion of the ORC outlining the strengths and weaknesses of their application submitted. The IHS program office will also provide additional contact information as needed to address questions and concerns as well as provide technical assistance if desired.

Approved But Unfunded Applicants

Approved but unfunded applicants that met the minimum scoring range and were deemed by the ORC to be “Approved”, but were not funded due to lack of funding, will have their applications held by DGM for a period of one year. If additional funding becomes available during the course of FY 2016 the approved but unfunded application may be re-considered by the awarding program office for possible funding. The applicant will also receive an Executive Summary Statement from the IHS program office within 30 days of the conclusion of the ORC.

Note: Any correspondence other than the official NoA signed by an IHS grants management official announcing to the Project Director that an award has been made to their organization is not an authorization to implement their program on behalf of IHS.

2. Administrative Requirements

Cooperative agreements are administered in accordance with the following regulations, policies, and OMB cost principles:

A. The criteria as outlined in this program announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

3. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) https://rates.psc.gov/ and the Department of Interior (Interior Business Center) https://www.doi.gov/ibc/services/finance/indirect-Cost-Services/indian-tribes. For questions regarding the indirect cost policy, please call the Grants Management Specialist listed under “Agency Contacts” or the main DGM office at (301) 443-5204.

4. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports. Per DGM policy, all reports are required to be submitted electronically by attaching them as a “Grant Note” in GrantSolutions. Personnel responsible for submitting reports will be required to obtain a login and password for GrantSolutions. Please see the Agency Contacts list in section VII for the systems contact information.

The reporting requirements for this program are noted below.

A. Progress Reports

Program progress reports are required semi-annually, within 30 days after the budget period ends. These reports must include a brief comparison of actual accomplishments to the goals established for the period, a summary of progress to date or, if applicable, provide sound justification for the lack of progress, and other pertinent information as required. A final report must be submitted within 90 days of expiration of the budget/project period.

B. Financial Reports

Federal Financial Report FFR (SF-425), Cash Transaction Reports are due 30 days after the close of every calendar quarter to the Payment Management Services, HHS at http://www.dpm.psc.gov. It is recommended that the applicant also send a copy of the FFR (SF-425) report to the Grants Management Specialist. Failure to submit timely reports may cause a disruption in timely payments to the organization.

Grantees are responsible and accountable for accurate information being reported on all required reports: The Progress Reports and Federal Financial Report.

C. Post Conference Grant Reporting

The following requirements were enacted in Section 3003 of the Consolidated Continuing Appropriations Act, 2013, and Section 119 of the Continuing Appropriations Act, 2014; Office of Management and Budget Memorandum M-12-12: All HHS/IHS awards containing grants funds allocated for conferences will be required to complete a mandatory post award report for all conferences. Specifically: The total amount of funds provided in this award/cooperative agreement that were spent for “Conference X”, must be reported in final detailed actual costs within 15 days of the completion of the conference. Cost categories to address should be: (1) Contract/Planner, (2) Meeting Space/Venue, (3) Registration Web site, (4) Audiovisual, (5) Speakers Fees, (6) Non-Federal Attendee Travel, (7) Registration Fees, and (8) Other.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the project period is made up of more than one budget period) and where: (1) The project period start date was October 1, 2010 or after and (2) the primary awardee will have a $25,000 sub-award obligation dollar threshold during any specific reporting period will be required to address the FSRS reporting. For the full IHS award term implementing this requirement and additional award applicability information, visit the DGM Grants Policy Web site at: http://www.ihs.gov/dgm/policytopics/.

E. Compliance With Executive Order 13166 Implementation of Services Accessibility Provisions for All Grant Application Packages and Funding Opportunity Announcements

Recipients of Federal Financial Assistance (FFA) from HHS must administer their programs in compliance with Federal civil rights law. This means that recipients of HHS funds must ensure equal access to their programs without regard to a person's race, color, national origin, disability, age and, in some circumstances, sex and religion. This includes ensuring your programs are accessible to persons with limited English proficiency. HHS provides guidance to recipients of FFA on meeting their legal obligation to take reasonable steps to provide meaningful access to their programs by persons with limited English proficiency. Please see http://www.hhs.gov/civil-rights/for-individuals/special-topics/limited-english-proficiency/guidance-federal-financial-assistance-recipients-title-VI/.

The HHS Office for Civil Rights (OCR) also provides guidance on complying with civil rights laws enforced by HHS. Please see http://www.hhs.gov/civil-rights/for-individuals/section-1557/index.html; and http://www.hhs.gov/civil-rights/index.html. Recipients of FFA also have specific legal obligations for serving qualified individuals with disabilities. Please see http://www.hhs.gov/civil-rights/for-individuals/disability/index.html. Please contact the HHS OCR for more information about obligations and prohibitions under federal civil rights laws at http://www.hhs.gov/civil-rights/for-individuals/disability/index.html or call 1-800-368-1019 or TDD 1-800-537-7697. Also note it is an HHS Departmental goal to ensure access to quality, culturally competent care, including long-term services and supports, for vulnerable populations. For further guidance on providing culturally and linguistically appropriate services, recipients should review the National Standards for Culturally and Linguistically Appropriate Services in Health and Health Care at http://minorityhealth.hhs.gov/omh/browse.aspx?lvl=2&lvlid=53.

Pursuant to 45 CFR 80.3(d), an individual shall not be deemed subjected to discrimination by reason of his/her exclusion from benefits limited by Federal law to individuals eligible for benefits and services from the IHS.

Recipients will be required to sign the HHS-690 Assurance of Compliance form which can be obtained from the following Web site: http://www.hhs.gov/sites/default/files/forms/hhs-690.pdf, and send it directly to the: U.S. Department of Health and Human Services, Office of Civil Rights, 200 Independence Ave. SW., Washington, DC 20201.

F. Federal Awardee Performance and Integrity Information System (FAPIIS)

The IHS is required to review and consider any information about the applicant that is in the Federal Awardee Performance and Integrity Information System (FAPIIS) before making any award in excess of the simplified acquisition threshold (currently $150,000) over the period of performance. An applicant may review and comment on any information about itself that a Federal awarding agency previously entered. IHS will consider any comments by the applicant, in addition to other information in FAPIIS in making a judgment about the applicant's integrity, business ethics, and record of performance under Federal awards when completing the review of risk posed by applicants as described in 45 CFR 75.205.

As required by 45 CFR part 75 Appendix XII of the Uniform Guidance, non-federal entities (NFEs) are required to disclose in FAPIIS any information about criminal, civil, and administrative proceedings, and/or affirm that there is no new information to provide. This applies to NFEs that receive Federal awards (currently active grants, cooperative agreements, and procurement contracts) greater than $10,000,000 for any period of time during the period of performance of an award/project.

Mandatory Disclosure Requirements

As required by 2 CFR part 200 of the Uniform Guidance, and the HHS implementing regulations at 45 CFR part 75, effective January 1, 2016, the IHS must require a non-federal entity or an applicant for a Federal award to disclose, in a timely manner, in writing to the IHS or pass-through entity all violations of Federal criminal law involving fraud, bribery,or gratutity violations potentially affecting the award.

Submission is required for all applicants and recipients, in writing, to the IHS and to the HHS Office of Inspector General all information related to violations of Federal criminal law involving fraud, bribery, or gratuity violations potentially affecting the Federal award. 45 CFR 75.113.

Disclosures must be sent in writing to:

U.S. Department of Health and Human Services, Indian Health Service, Division of Grants Management, ATTN: Robert Tarwater, Director, 5600 Fishers Lane, Mailstop: 09E70, Rockville, Maryland 20857, (Include “Mandatory Grant Disclosures” in subject line), Phone: (301) 443-5204, Fax: (301) 594-0899, Email: Robert.Tarwater@ihs.gov.

AND

U.S. Department of Health and Human Services, Office of Inspector General, ATTN: Mandatory Grant Disclosures, Intake Coordinator, 330 Independence Avenue SW., Cohen Building, Room 5527, Washington, DC 20201, URL: http://oig.hhs.gov/fraud/reportfraud/index.asp, (Include “Mandatory Grant Disclosures” in subject line) Fax: (202) 205-0604, (Include “Mandatory Grant Disclosures” in subject line) or Email: MandatoryGranteeDisclosures@oig.hhs.gov.

Failure to make required disclosures can result in any of the remedies described in 45 CFR 75.371 Remedies for noncompliance, including suspension or debarment (See 2 CFR parts 180 & 376 and 31 U.S.C. 3321).

VII. Agency Contacts

1. Questions on the programmatic issues may be directed to: Sherriann Moore, Acting Director, Office of Urban Indian Health Programs, 5600 Fishers Lane, Mail Stop: 08E65C, Rockville, MD 20857, Phone: (301) 443-1044, Fax: (301) 443-4794, Email: Sherriann.Moore@ihs.gov, Or Shannon Beyale, Health Information Specialist, Office of Urban Indian Health Programs, 5600 Fishers Lane, Mail Stop: 08E65C, Rockville, MD 20857, Phone: (301) 945-3657, Fax: (301) 443-4794, Email: Shannon.Beyale@ihs.gov.

2. Questions on grants management and fiscal matters may be directed to: Donald Gooding, Senior Grant Management Specialist, 5600 Fishers Lane, Mail Stop: 09E70, Rockville, MD 20857, Phone: (301) 443-5204, Fax: (301) 594-0899, Email: Donald.Gooding@ihs.gov.

3. Questions on systems matters may be directed to: Paul Gettys, Grant Systems Coordinator, 5600 Fishers Lane, Mail Stop: 09E70, Rockville, MD 20857, Phone: (301) 443-2114; or the DGM main line (301) 443-5204, Fax: (301) 594-0899, Email: Paul.Gettys@ihs.gov.

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Dated: May 7, 2016.
Elizabeth Fowler,
Deputy Director for Management Operations, Indian Health Service.

[FR Doc. 2016-14043 Filed 6-13-16; 8:45 am]

BILLING CODE 4165-16-P